FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Procurement Solicitation Package (FR 1400; OMB No. 7100-0180).

DATES: Comments must be submitted on or before July 14, 2023.

ADDRESSES: You may submit comments, identified by FR 1400, by any of the following methods:

• Agency Website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Federal Reserve Board of Governors, Attn: Ann E. Misback, Secretary of the Board, Mailstop M-4775, 2001 C St NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room M-4365A, 2001 C St NW, Washington, DC 20551, between 9:00 a.m. and 5:00 p.m. on weekdays, except for Federal holidays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/home/review or may be requested from the agency clearance officer, whose name appears above. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Procurement Solicitation Package.

Collection identifier: FR 1400.

OMB Control Number: 7100-0180.

General Description of Collection: The Board uses the Procurement Solicitation Package, which includes a supplier database and solicitation documents as appropriate, to assist in the competitive process of soliciting proposals from suppliers of goods and services. The Procurement Solicitation Package includes the: Supplier Registration System (FR 1400A), Solicitation Package (Solicitation, Offer, and Award Form; Supplier Information Form; Past Performance Data Sheet; and Past Performance Questionnaire) (FR 1400B), Supplier Risk Management Offeror Questionnaire (FR 1400C), and Subcontracting Report (FR 1400D).

The solicitation documents are typically for the procurement of goods, services and construction that are not off-the-shelf items. The Board's supplier database serves as a venue for Board staff to research potential suppliers and their qualifications. When a solicitation is constructed for a specific acquisition, the solicitation package is typically called a Solicitation, Offer, and Award (SOA) document, which consists of the Solicitation Form (Section A of the SOA) and Supplier Information Form (Section N of the SOA), which are both part of FR 1400B. Depending on the requirements of the specific acquisition, the SOA may also consist of a Past Performance Data Sheet (part of FR 1400B), Past Performance Questionnaire (part of FR 1400B), Supplier Risk Management Offeror Questionnaire (FR 1400C), or Subcontracting Report (FR 1400D). This information collection is required to collect data on prices, specifications of goods and services, and qualifications of prospective suppliers.

Proposed revisions: The Board proposes to revise the FR 1400 by transitioning the FR 1400B into the new online source to settle system provided by Coupa, making minor revisions to the content to help improve reporting and reduce commonly asked follow-up questions, and adding a new section to the SOA, which respondents will be required to complete and then update or re-certify each year. This information would be required for every supplier when they complete a solicitation. Additionally, on an annual basis, suppliers would be required to login to Coupa to update or re-certify that representation information they originally entered in the “Board of Governors Policy Information” section is still correct. The FR 1400C and FR 1400D would also be transitioned to the Coupa system; however, the contents and format of the FR 1400C and FR 1400D would not change. There are no revisions being proposed to the FR 1400A.

Frequency: Event-generated.

Respondents: Businesses and individuals.

Total estimated number of respondents: 630.

Total estimated change in burden: 33.

Total estimated annual burden hours: 24,863.¹

¹ More detailed information regarding this collection, including more detailed burden estimates, can be found in the OMB Supporting Statement posted at https://www.federalreserve.gov/apps/reportingforms/home/review. On the page displayed at the link, you can find the OMB Supporting Statement by referencing the collection identifier, FR 1400.

Board of Governors of the Federal Reserve System, May 9, 2023.
Michele Taylor Fennell,
Deputy Associate Secretary of the Board.

[FR Doc. 2023-10257 Filed 5-12-23; 8:45 am]

BILLING CODE 6210-01-P